DEPARTMENT OF COMMERCE

National Oceanic and Atmospheric Administration

[ID. 010807D]

Fisheries Off West Coast States; Pacific Coast Groundfish Fishery; Notice of Availability of Observer Coverage Plan and Notice of Sablefish At-Sea Processing Prohibition Exemption

AGENCY: National Marine Fisheries Service (NMFS), National Oceanic and Atmospheric Administration (NOAA), Commerce.

ACTION: Notice of availability of an updated Observer Coverage Plan for the Pacific Coast Groundfish Fishery and an exemption to the at-sea processing prohibition for sablefish.

SUMMARY: NMFS announces availability of the updated Observer Coverage Plan for the Pacific Coast Groundfish Fishery pursuant to the Pacific Coast Groundfish Fishery Management Plan (FMP). NMFS also announces the receipt of applications for, and the issuance of, an exemption to the prohibition of at-sea processing for sablefish caught during the primary sablefish fishery, a prohibition implemented as part of Amendment 14 to the FMP.

FOR FURTHER INFORMATION CONTACT: For more information on the Observer Coverage Plan, contact Jonathan Cusick (Northwest Fisheries Science Center, NMFS), phone: 360-332-2793 and e-mail: jonathan.cusick@noaa.gov. For more information on vessel exemptions to the prohibition of at-sea processing for sablefish, contact Kevin Ford (Northwest Region, NMFS), phone: 206-526-6115; fax: 206-526-6736 and e-mail: kevin.ford@noaa.gov.

Electronic Access

This Federal Register document is also accessible via the internet at the website of the Office of the Federal Register: http://www.gpoaccess.gov/fr/index.html. The updated Observer Coverage Plan is posted online at: http://www.nwfsc.noaa.gov/research/divisions/fram/observer/index.cfm.

SUPPLEMENTARY INFORMATION: The FMP at Section 6.4.1.1 states: “The Regional Administrator will implement an observer program through a Council-approved Federal regulatory framework. Details of how observer coverage will be distributed across the West Coast groundfish fleet will be described in an observer coverage plan that is appropriate to the purpose of the particular observer program goals. An observer coverage plan designed for a scientific data collection program will likely be different from an observer coverage plan designed for a sector- or vessel-specific total catch monitoring program. NMFS will publish an announcement of the authorization of the observer program and description of the observer coverage plan in the Federal Register.” In July 2006, NMFS updated its Observer Coverage Plan to reflect changes in the goals and methodologies of the West Coast Groundfish Observer Program (WCGOP). The new plan may be obtained from the individuals listed under the FOR FURTHER INFORMATION CONTACT section, or from the website listed under the Electronic Access section.

Amendment 14 to the Pacific Coast Groundfish FMP was first implemented via a final rule published in the Federal Register on March 7, 2002 (67 FR 10490). On March 2, 2006, NMFS issued a final rule to implement further provisions of Amendment 14 (71 FR 10614). To ensure that shoreside processing plants would continue to have access to sablefish landed during the primary sablefish fishery, Amendment 14 had included a provision that prohibits vessels from processing their sablefish at sea. To acknowledge the previous investment that some vessels owners may have made in on-board freezing and processing equipment, Amendment 14 implementing regulations allowed a one-time opportunity for vessels to apply for an exemption from the prohibition on at-sea processing. During the summer of 2006, NMFS completed the application and review process for an exemption from the prohibition, as provided for in Federal regulations at 50 CFR 660.334 (e). One vessel, F/V OSSIAN, qualified for the exemption. The sablefish at-sea processing exemption is associated with the F/V OSSIAN itself, not with the vessel owner's limited entry permit, and may not be transferred to any other vessel, vessel owner, or permit owner for any reason.

Authority: 16 U.S.C. 1801 et seq.

Dated: January 9, 2007.
James P. Burgess,
Acting Director, Office of Sustainable Fisheries, National Marine Fisheries Service.

[FR Doc. E7-461 Filed 1-12-07; 8:45 am]

BILLING CODE 3510-22-S